DEPARTMENT OF ENERGY

Federal Energy Regulatory Commission

[Project No. 2197-035, North Carolina]

Yadkin, Inc., Notice of Availability of Draft Environmental Assessment

February 1, 2000.

A draft environmental assessment (DEA) is available for public review. The DEA analyzes the environmental impacts of a Shoreline Management Plan (SMP) filed for the Yadkin Hydroelectric Project located on the Yadkin-Pee Dee River in Montgomery, Stanly, Davidson and Rowan Counties, North Carolina. The Yadkin Project contains the following reservoirs: High Rock, Tuckertown, Narrows (Badin) and Falls.

The DEA was written by staff in the Office of Hydropower Licensing, Federal Energy Regulatory Commission. Commission staff believe the SMP would not constitute a major federal action significantly affecting the quality of the human environment. Copies of the DEA can be viewed on the web at www.ferc.fed.us/online/rims.htm. Call (202) 208-222 for assistance. Copies are also available for inspection and reproduction at the Commission's Public Reference Room located at 888 First Street, NE, Room 2A, Washington, DC 20426, or by calling (202) 208-1371.

Anyone may file comments on the DEA. The public, federal and state resource agencies are encouraged to provide comments. All written comments must be filed within 60 days of the issuance date of this notice shown above. Send an original and eight copies of all comments marked with the project number P-2197-035 to: The Secretary, Federal Energy Regulatory Commission, 888 First Street, NE, Washington, DC 20426. Oral comments on the DEA will be taken by Commission staff at a public meeting to be scheduled in the vicinity of the Yadkin Project. The exact date, time and location of the public meeting have not yet been determined. Commission staff will issue a separate notice when the exact date, time and location of the public meeting are finalized. If you have any questions regarding this notice, pleas call Steve Hocking at (202) 219-2656.

David P. Boergers,
Secretary.

[FR Doc. 00-2650 Filed 2-4-00; 8:45 am]

BILLING CODE 6717-01-M